ENVIRONMENTAL PROTECTION AGENCY

40 CFR Part 52

[EPA-R03-OAR-2008-0603; FRL-8708-5]

Approval and Promulgation of Air Quality Implementation Plans; Pennsylvania; Philadelphia County Reasonably Available Control Technology Under the 8-Hour Ozone National Ambient Air Quality Standard

AGENCY: Environmental Protection Agency (EPA).

ACTION: Proposed rule.

SUMMARY: EPA is proposing to approve a State Implementation Plan (SIP) revision submitted by the Commonwealth of Pennsylvania. This SIP revision pertains to the requirements in meeting the reasonably available control technology (RACT) under the 8-hour ozone national ambient air quality standard (NAAQS). These requirements are based on the certification that previously adopted RACT controls in Pennsylvania's SIP that were approved by EPA under the 1-hour ozone NAAQS are based on the currently available technically and economically feasible controls, and that they continue to represent RACT for the 8-hour implementation purposes; the adoption of new or more stringent regulations that represent RACT control levels; and a negative declaration that certain categories of sources do not exist in Philadelphia County, Pennsylvania. This action is being taken under the Clean Air Act (CAA).

DATES: Written comments must be received on or before September 25, 2008.

ADDRESSES: Submit your comments, identified by Docket ID Number EPA-R03-OAR-2008-0603 by one of the following methods:

A. www.regulations.gov. Follow the on-line instructions for submitting comments.

B. E-mail: fernandez.cristina@epa.gov.

C. Mail: EPA-R03-OAR-2008-0603, Cristina Fernandez, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2008-0603. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access'' system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Department of Public Health, Air Management Services, 321 University Avenue, Philadelphia, Pennsylvania 19104.

FOR FURTHER INFORMATION CONTACT: Melissa Linden, (215) 814-2096, or by e-mail at linden.melissa@epa.gov.

SUPPLEMENTARY INFORMATION: On September 25, 2006, the Pennsylvania Department of Environmental Protection submitted a revision for Philadelphia County to its SIP that addresses the requirements of RACT under the 8-hour ozone NAAQS.

I. Background

Ozone is formed in the atmosphere by photochemical reactions between volatile organic compounds (VOC), oxides of nitrogen (NOX) and carbon monoxide (CO) in the presence of sunlight. In order to reduce ozone concentrations in the ambient air, the CAA requires all nonattainment areas to apply control on VOC/NOX emission sources to achieve emission reductions. Among effective control measures, RACT controls are a major group for reducing VOC and NOX emissions from stationary sources.

RACT is defined as the lowest emission limitation that a particular source is capable of meeting by the application of control technology that is reasonably available considering technological and economic feasibility (44 FR 53761 at 53762, September 17, 1979). Section 182 of the CAA sets forth two separate RACT requirements for ozone nonattainment areas. The first requirement, contained in section 182(a)(2)(A) of the CAA, and referred to as RACT fix-up requires the correction of RACT rules for which EPA identified deficiencies before the CAA was amended in 1990. Philadelphia County has no deficiencies to correct under this section of the CAA. The second requirement, set forth in section 182(b)(2) of the CAA, applies to moderate (or worse) ozone nonattainment area as well as to marginal and attainment areas in ozone transport regions (OTRs) established pursuant to section 184 of the CAA, and requires these areas to implement RACT controls on all major VOC and NOX emission sources and on all sources and source categories covered by a control technique guideline (CTG) issued by EPA.

Under the 1-hour ozone NAAQS, Philadelphia County was designated part of the Philadelphia-Wilmington-Trenton severe ozone nonattainment area located in an OTR. Therefore, the county was subject to RACT requirements under the 1-hour ozone standard. Pennsylvania has implemented numerous RACT controls throughout the Commonwealth to meet the CAA RACT requirements. These RACT controls were promulgated in the Philadelphia Air Management Regulations Part V and Pennsylvania's Regulations in Title 25 Sections 129 and 145.

Under the 8-hour ozone NAAQS, Philadelphia County is part of the Philadelphia-Wilmington-Atlantic City moderate nonattainment area, and is therefore subject to the CAA requirements. Pennsylvania is required to submit to EPA a SIP revision that addresses how Philadelphia County meets the RACT requirements under the 8-hour ozone standard. The entire Commonwealth of Pennsylvania is also part of the OTR established under section 184 of the CAA.

EPA requires under the 8-hour ozone NAAQS that states meet the CAA RACT requirements, either through a certification that previously adopted RACT controls in their SIP revisions approved by EPA under the 1-hour ozone NAAQS represent adequate RACT control levels for 8-hour attainment purposes, or through the adoption of new or more stringent regulations that represent RACT control levels. A certification must be accompanied by appropriate supporting information such as consideration of information received during the public comment period and consideration of new data. This information may supplement existing RACT guidance documents that were developed for the 1-hour standard, such that the State's SIP accurately reflects RACTs for the 8-hour ozone standard based on the current availability of technically and economically feasible controls. Adoption of new RACT regulations will occur when states have new stationary sources not covered by existing RACT regulations, or when new data or technical information indicates that a previously adopted RACT measure does not represent a newly available RACT control level. Another 8-hour ozone NAAQS requirement for RACT is to submit a negative declaration that there are no CTG or non-CTG major sources of VOC and NOX emissions within Philadelphia County.

II. Summary of SIP Revision

Pennsylvania's SIP revision contains the requirements of RACT set forth by the CAA under the 8-hour ozone NAAQS. Pennsylvania's SIP revision satisfies the 8-hour RACT requirements through (1) certification that previously adopted RACT controls in Pennsylvania's SIP that were approved by EPA under the 1-hour ozone NAAQS are based on the currently available technically and economically feasible controls, and continues to represent RACT for the 8-hour implementation purposes; (2) the adoption of federally enforceable permits that represent RACT control levels; and (3) a negative declaration that certain CTG or non-CTG major sources of VOC and NOX sources do not exist in Philadelphia County.

VOC RACT Controls

Philadelphia Air Management Regulations Part V and Pennsylvania Regulations Title 25 Section 129 contains Philadelphia County's VOC RACT controls that were implemented and approved in the Pennsylvania SIP under the 1-hour ozone NAAQS. Table 1 lists Philadelphia County's VOC RACT controls.

Table 1—Philadelphia County's VOC RACT Controls
RACT document basis | Regulation | Date published | Federal Register citation
CTG: Control of VOC Emissions from Petroleum Liquid Storage in External Floating Roof Tanks | Air Management Regulations (AMR) V Section II | 05/31/1972 | 37 FR 10842
| PA Title 25 Section 129.56 | 07/26/2000 | 65 FR 45920
| PA Title 25 Section 129.57 | 01/19/1983 | 48 FR 2319
CTG: Control of VOC Emissions from Storage of Petroleum Liquids in Fixed Roof Tanks | AMR V Section II PA Title 25 Section 129.56 | 05/31/1972 07/26/2000 | 37 FR 10842 65 FR 45920
| PA Title 25 Section 129.57 | 01/19/1983 | 48 FR 2319
CTG: Control of Refinery Vacuum Producing Systems, Wastewater Separators and Process Unit Turnarounds | AMR V Section III PA Title 25 Section 129.55 | 05/31/1972 01/19/1983 | 37 FR 10842 48 FR 2319
CTG: Control of VOC Leaks from Petroleum Refinery Equipment | AMR V Section IV PA Title 25 Section 129.58 | 05/31/1972 07/27/1984 | 37 FR 10842 49 FR 30183
CTG: Control of Hydrocarbons from Tank Truck Gasoline Loading Terminals | AMR V Section V PA Title 25 Section 129.59 | 05/31/1972 08/11/1992 | 37 FR 10842 57 FR 35777
| PA Title 25 Section 129.62 | 12/22/1994 | 59 FR 65971
CTG: Control of VOC Emissions from Bulk Gasoline Plants | PA Title 25 Section 129.60 | 08/11/1992 | 57 FR 35777
CTG: Control of VOC Leaks from Gasoline Tank Trucks and Vapor Collection Systems | AMR V Section XIII PA Title 25 Section 129.62 | 04/06/1993 12/22/1994 | 58 FR 17778 59 FR 65971
CTG: Design Criteria for Stage I Vapor Control Systems—Gasoline Service Stations | PA Title 25 Section 129.61 | 08/11/1992 | 57 FR 35777
CTG: Control of VOC Emissions from Solvent Metal Cleaning | AMR V Section VI | 05/31/1972 | 37 FR 10842
| PA Title 25 Section 129.63 | 01/16/2003 | 68 FR 2208
Alternative Control Technology (ACT) Document—Halogenated Solvent Cleaners | PA Title 25 Section 129.63 | 01/16/2003 | 68 FR 2208
CTG: Control of VOC from Use of Cutback Asphalt | PA Title 25 Section 129.64 | 07/27/1984 | 49 FR 30183
CTG: Control of VOC Emissions from Manufacture of Pneumatic Rubber Tires | PA Title 25 Section 129.69 | 12/22/1994 | 59 FR 65971
CTG: Control of VOC Emissions from Manufacture of Synthesized Pharmaceutical Products | AMR V Section XII PA Title 25 Section 129.68 | 06/16/1993 08/11/1992 | 58 FR 33200 57 FR 35777
CTG: Control of VOC Emissions from Large Petroleum Dry Cleaners | AMR V Section XI | 04/12/1993 | 58 FR 19066
CTG: Control of VOC Emissions from Existing Stationary Sources, Volume II: Surface Coating of Cans, Coils, Paper, Fabrics, Automobiles, and Light-Duty Trucks | PA Title 25 Section 129.52 | 07/20/2001 | 66 FR 37908
CTG: Control of VOC Emissions from Existing Stationary Sources, Volume III: Surface Coatings of Metal Furniture | PA Title 25 Section 129.52 | 07/20/2001 | 66 FR 37908
CTG: Control of VOC Emissions from Existing Stationary Sources, Volume IV: Surface Coating for Insulation of Magnet Wire | PA Title 25 Section 129.52 | 07/20/2001 | 66 FR 37908
CTG: Control of VOC Emissions from Existing Stationary Sources, Volume V: Surface Coating of Large Appliances | PA Title 25 Section 129.52 | 07/20/2001 | 66 FR 37908
CTG: Control of VOC Emissions from Existing Stationary Sources, Volume VI: Surface Coating of Miscellaneous Metal Parts and Products | PA Title 25 Section 129.52 | 07/20/2001 | 66 FR 37908
CTG: Control of VOC Emissions from Existing Stationary Sources, Volume VIII: Graphic Arts—Rotogravure and Flexography | PA Title 25 Section 129.67 | 07/26/2000 | 65 FR 45920
CTG: Control of VOC Emissions from Manufacture of High-Density Polyethylene, Polypropylene, and Polystrene Resins | PA Title 25 Section 129.71 | 12/22/1994 | 59 FR 65971
CTG: Control of VOC Fugitive Emissions from Synthetic Organic Chemical Polymer and Resin Manufacturing Equipment | PA Title 25 Section 129.71 | 12/22/1994 | 59 FR 65971
Non-CTG RACT: An industry-specific RACT determination (CAA Section 182(b)(2)(c)) | AMR V Section X PA Title 25 Section 129.72 | 06/16/1993 12/22/1994 | 58 FR 33192 59 FR 65971
| PA Title 25 Section 129.91—129.95 | 07/20/2001 | 66 FR 37908
CTG—Maximum Achievable Control Technology (MACT): Aerospace | PA Title 25 Section 129.73 | 06/25/2001 | 66 FR 33645
CTG—MACT: Wood Furniture | PA Title 25 Section 129.101—129.107 | 07/20/2001 | 66 FR 37908
ACT: Automobile Body refinishing | PA Title 25 Section 129.75 | 08/14/2000 | 65 FR 49501
| AMR V Section VII—processing of Photochemically Reactive Materials | 05/31/1972 | 37 FR 10842
| AMR V Section VIII—Architectural Coatings | 05/31/1972 | 37 FR 10842
| AMR V Section IX—Disposal of Solvents | 05/31/1972 | 37 FR 10842
| PA Title 25 Section 129.65—Ethylene production plants | 11/14/2002 | 67 FR 68935
| AMR V Section I—Definitions | 06/16/1993 | 58 FR 33200
| PA Title 25 Section 129.51—General | 06/25/2001 | 66 FR 33645

Philadelphia Air Management Services (AMS) submitted a negative declaration demonstrating that no surface coating of flat wood paneling facilities exist in Philadelphia County. Philadelphia AMS submitted a list of federally enforceable permits for specific sources that are as stringent as the CTG guidance issued by EPA. These case-by-case RACT determinations are found in Table 2.

Table 2—Philadelphia County's Case-by-Case RACT Determinations
RACT document basis | Facility name | Operating permit No.
CTG: Control of Volatile Organic Equipment Leaks from Natural Gas/Gasoline Processing Plants | Philadelphia Gas Works | V95-042.
| Sunoco Philadelphia Refinery | V95-038.
CTG/ACT: Shipbuilding/Repair | Aker Philadelphia Shipyard | V01-006.
CTG: Control of Volatile Organic Compound Emissions from Air Oxidation Processes in Synthetic Organic Chemical Manufacturing Industry | Sunoco Chemicals | V95-047.
CTG: Control of Volatile Organic Compound Emissions from Reactor Processes and Distillation Operations Processes in the Synthetic Organic Chemical Manufacturing Industry | Sunoco Chemicals | V95-047.

NOX RACT Controls

Philadelphia Air Management Regulations Part VII and Pennsylvania Regulations Title 25 Sections 129 and 145 list NOX RACT controls that were implemented and approved into the Pennsylvania SIP under the 1-hour ozone NAAQS. Table 3 lists Philadelphia County's NOX RACT controls.

Table 3—Philadelphia County's NOX RACT Controls
RACT document basis | Regulation | Date published | Federal Register citation
| AMR VII Section II—Fuel Burning Equipment | 01/14/1987 | 52 FR 1456
| AMR VII Section III—Nitric Acid Plants | 05/14/1973 | 38 FR 12696
| AMR VII Section IV—Emissions Monitoring | 05/14/1973 | 38 FR 12696
NOX RACT, CAA Section 182 (b)(2) and Section 182(f) | PA Title 25 Sections 129.91-129.95 | 07/20/2001 | 66 FR 37908
NOX SIP Call | PA Title 25 Sections 145.1-145.100 | 08/21/2001 | 66 FR 43795
| PA Title 25 Sections 145.111-145.113 | 07/14/2006 | 71 FR 40084
| PA Title 25 Sections 145.141-145.144 | 07/14/2006 | 71 FR 40084

III. Proposed Action

EPA is proposing to approve the Pennsylvania SIP revision for Philadelphia County that addresses the requirements of RACT under the 8-hour ozone NAAQS. Pennsylvania submitted this SIP revision on September 25, 2006. This SIP revision is based on a combination of (1) certification that previously adopted RACT controls in Pennsylvania's SIP that were approved by EPA under the 1-hour ozone NAAQS are based on the currently available technically and economically feasible controls, and that they continue to represent RACT for the 8-hour implementation purposes; (2) the adoption of federally enforceable permits that represent RACT control levels; and (3) the negative declaration that there are no CTG or non-CTG major sources of VOC and NOX emissions within Philadelphia County. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the Clean Air Act. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to the Philadelphia County RACT under the 8-hour ozone NAAQS, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Nitrogen dioxide, Ozone, Reporting and recordkeeping requirements, Volatile organic compounds.

Authority: 42 U.S.C. 7401 et seq.

Dated: August 18, 2008.
William T. Wisniewski,
Acting Regional Administrator, Region III.

[FR Doc. E8-19753 Filed 8-25-08; 8:45 am]

BILLING CODE 6560-50-P